CONSUMER PRODUCT SAFETY COMMISSION

[Docket No. CPSC-2010-0112]

Agency Information Collection Activities; Submission for Office of Management and Budget Review; Comment Request; Prize Competitions and Contests

AGENCY: U.S. Consumer Product Safety Commission.

ACTION: Notice.

SUMMARY: The U.S. Consumer Product Safety Commission (“CPSC” or “Commission”) is announcing that a proposed collection of information has been submitted to the U.S. Office of Management and Budget (“OMB”) for review and clearance under the Paperwork Reduction Act of 1995.¹

¹ The Commission voted 5-0 to approve publication of this notice. Commissioner Anne Northup filed a statement concerning this action which may be viewed on the Commission's Web site at http://www.cpsc.gov/pr/statements.html or obtained from the Commission's Office of the Secretary.

DATES: Fax written comments on the collection of information by May 19, 2011.

ADDRESSES: To ensure that comments on the information collection are received, the OMB recommends that written comments be faxed to the Office of Information and Regulatory Affairs, OMB, Attn: CPSC Desk Officer, FAX: 202-395-6974, or e-mailed to oira_submission@omb.eop.gov. All comments should be identified by Docket No. CPSC-2010-0112. In addition, written comments also should be submitted at http://www.regulations.gov, under Docket No. CPSC-2010-0112, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Linda Glatz, Division of Policy and Planning, Office of Information Technology, U.S. Consumer Product Safety Commission, 4330 East-West Highway, Bethesda, MD 20814. 301-504-7671. lglatz@cpsc.gov.

SUPPLEMENTARY INFORMATION: In compliance with 44 U.S.C. 3507, the CPSC has submitted the following proposed collection of information to the OMB for review and clearance: Prize Competitions and Contests.

Consistent with the OMB Memorandum on the Use of Challenges and Prizes to Promote Open Government (M-10-11, March 8, 2010), the CPSC intends to establish contests and give awards to members of the public to further the mission of the CPSC. The purposes of the proposed contests and awards range from increasing the knowledge and awareness of schoolchildren of certain safety hazards, such as carbon monoxide poisoning, to recognizing outstanding consumer product safety accomplishments of scientists, business leaders, entrepreneurs, and others who have demonstrated support of the CPSC's product safety mission. The CPSC awards and contests will highlight excellence in consumer product safety to motivate, inspire, and guide others, including companies across the supply chain; increase the number and diversity of the individuals, organizations, and teams that are addressing consumer product safety issues; educate children and consumers about safety hazards; and attract more public interest and attention to the issues involving consumer product hazards and safety.

The CPSC is seeking OMB approval of a generic clearance for CPSC's contests and awards. The information to be collected from contestants and award nominees or nominators includes contact and background information necessary to conduct a contest or award program. Limited background or biographical information similar to data found on a resume, such as a nominee's education and work experience, may be requested for some contests or awards. Additionally, the substantive entries that are the subject of the contests or awards, such as essays, posters, drawings, and videos; descriptions of products, services, or inventions; and statistics on product or service performance or impact, may be requested from contestants and award nominees.

In the Federal Register of November 29, 2010 (75 FR 73047), the CPSC published a 60-day notice requesting public comment on the proposed collection of information. No comments were received.

We estimate the burden of this collection of information as follows. The CPSC estimates up to 500 contest or award participants each year. The estimated time to complete a contest or award submission is five hours. In addition, approximately 20 applicants may be asked to provide additional information, a task that may take up to two additional hours to complete. Therefore, the total estimated burden on respondents is 2,540 hours ((500 participants × 5 hours/participant) + (20 applicants × 2 hours/participant) = 2,500 hours + 40 hours = 2,540 hours). The estimated total annual cost of the burden to all respondents is $75,463. This estimate is based on the total estimated burden on respondents (2,540 hours) multiplied against an hourly civilian rate of $29.71 per hour, as specified by the Bureau of Labor Statistics, March 2010, All Workers, resulting in a total of $75,463.40, which we have rounded down to $75,463.

We estimate the total annual costs to the federal government as follows. Ten staff members would support the contest or award activities annually. The CPSC tentatively estimates that each staff member will spend approximately six hours per work week for six months on such contest or award activities. Of the 10 staff members, the CPSC tentatively believes that seven will be General Schedule (GS) employees, and three will be Senior Executive Service (SES) employees. Accordingly, for seven GS employees, the estimated total annual cost to the federal government is determined as follows: Seven employees × (six hours/week/employee × 24 weeks) = 1,008 hours. Assuming the employees are at the GS-15, Step 5 level, the hourly rate for such an employee located in the Washington, DC, area is $ 67.21/hour; thus $67.21/hour × 1,008 hours = $67,747.68. For the SES employees, three employees × (six hours/week/employee × 24 weeks) = 432 hours. Assuming the employees are at the Level III level for SES employees, the hourly rate for such an employee is approximately $79.47/hour; thus $79.47/hour × 432 hours = $34,331.04. The estimated total annual cost to the federal government is $67,747.68 + $34,331.04 = $102,078.72, which we have rounded up to $102,079.

Dated: April 14, 2011.
Todd A. Stevenson,
Secretary, Consumer Product Safety Commission.

[FR Doc. 2011-9424 Filed 4-18-11; 8:45 am]

BILLING CODE 6355-01-P